DEPARTMENT OF LABOR

Employment and Training Administration

[NAFTA-5397]

Connolly North America, El Paso, Texas; Notice of Negative Determination Regarding Application for Reconsideration

By application dated December 4, 2001, petitioners requested administrative reconsideration of the Department's negative determination regarding eligibility to apply for North American Free Trade Agreement-Transitional Adjustment Assistance (NAFTA-TAA), applicable to workers and former workers of the subject firm. The denial notice was signed on November 15, 2001, and was published in the Federal Register on November 30, 2001 (66 FR 59817).

Pursuant to 29 CFR 90.18(c) reconsideration may be granted under the following circumstances:

(1) If it appears on the basis of facts not previously considered that the determination complained of was erroneous;

(2) If it appears that the determination complained of was based on a mistake in the determination of facts not previously considered; or

(3) If in the opinion of the Certifying Officer, a misinterpretation of facts or of the law justified reconsideration of the decision.

The denial of NAFTA-TAA for workers engaged in activities related to the production of leather and leather products (used by the automotive industry, i.e., seating components) at Connolly North America, El Paso, Texas, was based on the finding that criteria (3) and (4) of the group eligibility requirements of paragraph (a)(1) of section 250 of the Trade Act, as amended, were not met. There were no company imports of leather or leather products from Mexico or Canada, nor did the subjects firm shift production from El Paso, Texas to Mexico or Canada.

The petitioner requested administrative reconsideration based on a major customer switching their purchases of leather and leather products from the subject firm in favor of producing the products at the customer's affiliated location in Mexico.

Based on data supplied during the initial investigation, the allegation by the petitioner is consistent with what the subject firm provided. The loss of a customer and the decision by the customer to produce the leather and leather products in Mexico and the further processing of these products into car seat components in Mexico does not meet the eligibility requirements of the group eligibility requirements of paragraph (a)(1) of section 250 of the Trade Act, as amended.

However, based on the data supplied, the Department will evaluate if the firm is secondarily impacted under the North American Free Trade Agreement (NAFTA) Implementation Act.

Conclusion

After review of the application and investigation findings, I conclude that there has been no error or misinterpretation of the law or of the facts which would justify reconsideration of the Department of Labor's prior decision. Accordingly, the application is denied.

Signed at Washington, DC, this 15th day of April 2002.
Edward A. Tomchick,
Director, Division of Trade Adjustment Assistance.

[FR Doc. 02-12403 Filed 5-16-02; 8:45 am]

BILLING CODE 4510-30-M